FEDERAL COMMUNICATIONS COMMISSION

47 CFR Part 1

[MD Docket Nos. 22-301, 23-159; FCC 23-34; FR ID 191170]

Review of the Commission's Assessment and Collection of Regulatory Fees; Assessment and Collection of Regulatory Fees for Fiscal Year 2023

AGENCY: Federal Communications Commission.

ACTION: Final action.

SUMMARY: In this document, the Federal Communications Commission (Commission) amends its rules to simplify and streamline the Commission's procedures for filing waiver, deferral, and reduction requests for regulatory fees and the procedures for filing installment payment requests for all debt owed to the Commission, including regulatory fees, to reduce administrative expenses and ensure more rapid disposition of such requests.

DATES: The revision to the Commission's waiver procedure, 47 CFR 1.1166, became effective on October 16, 2023. The revision to 47 CFR 1.1914 is delayed indefinitely until after review by the Office of Management and Budget (OMB), as required by the Paperwork Reduction Act.

FOR FURTHER INFORMATION CONTACT: Roland Helvajian, Office of Managing Director, at (202) 418-0444.

SUPPLEMENTARY INFORMATION: This is a summary of the Commission's Report and Order (May Report and Order), in MD Docket Nos. 22-301 and 23-159, FCC 23-34, adopted on May 12, 2023, and released on May 15, 2023, as amended by the sua sponte technical corrections the Commission made to the language of 47 CFR 1.1166 and 1.1914 in the Commission's Report and Order, FCC 23-66, MD Docket Nos. 22-310 and 23-159, adopted and released on August 10, 2023 (August Report and Order), 88 FR 63694, (Sept. 15, 2023). The full text of the Commission's May Report and Order and August Report and Order are available for public inspection by downloading the text from the Commission's website at https://www.fcc.gov/licensing-databases/fees/regulatory-fees.

I. Administrative Matters

A. Final Paperwork Reduction Act of 1995 Analysis

1. The Commission adopted amendments to 47 CFR 1.1166 and 1.1914 in the May Report and Order, and made technical corrections to the language of those rules in the August Report and Order, which may contain new or substantively modified information collection requirements subject to the PRA and new or modified information collection burdens for small business concerns with fewer than 25 employees, pursuant to the Small Business Paperwork Relief Act of 2002, Public Law 107-198, see 44 U.S.C. 3506(c)(4). The amendments to 47 CFR 1.1166, as adopted in the May Report and Order, and as technically corrected in the August Report and Order, were approved by OMB on August 17, 2023, pursuant to the Paperwork Reduction Act, as non-substantive modifications to an information collection under the PRA. The effective date of the amended 47 CFR 1.1166 was October 16, 2023, which was 30 days after it was published in the Federal Register on September 15, 2023. The amendments to 47 CFR 1.1914 will not become effective until 30 days after publication of a document in the Federal Register announcing that the Office of Management and Budget has completed review of any information collection requirements that the Office of Managing Director determines are required under the Paperwork Reduction Act. The Commission will publish a document in the Federal Register announcing the effective date of the revisions to 47 CFR 1.1914.

B. Congressional Review Act

2. The Commission will not send a copy of the May Report and Order to Congress and the Government Accountability Office pursuant to the Congressional Review Act, 5 U.S.C. 801(a)(1)(A), because the adopted rule is a rule of agency organization, procedure, or practice that does not “substantially affect the right or obligations of non-agency parties.”

II. Discussion

3. In the May Report and Order, the Commission codified several of the temporary measures it had implemented in FY 2020 through FY 2022 to permanently simplify and streamline the process for filing waiver, deferral, and reduction requests for regulatory fees and the process for filing installment payment requests for all debt owed to the Commission, including regulatory fee debt. Specifically, it amended 47 CFR 1.1166 and 1.1914 as follows: (i) parties seeking multiple forms of regulatory fee relief, including installment payment of their regulatory fees, may file a single pleading in which all requested relief is included; (ii) parties must submit their requests electronically to regfeerelief@fcc.gov; and (iii) parties seeking only installment payment relief to pay debt owed to the Commission, including regulatory fee debt, must submit such requests in writing, electronically to regfeerelief@fcc.gov. The Commission received many more requests for waiver, reduction, deferral, and installment payment relief in FYs 2020, 2021, and 2022 than it had received in previous years. As in other years, many of the requests were submitted by regulatory fee payors without the assistance of counsel. The Commission found that the procedural flexibility used during this time eased the Commission's administrative burden and thereby reduced administrative expenses of collection. The Commission made these changes without notice and comment because they are rules of agency organization, procedure, or practice exempt from the general notice-and-comment requirements of the Administrative Procedure Act.

4. On August 10, 2023, the Commission adopted the August Report and Order, which included sua sponte technical corrections to the amended language of 47 CFR 1.1166 and 1.1914. Specifically, the Commission deleted “or installment payment” in the introductory paragraph of 47 CFR 1.1166 and in 47 CFR 1.1166(a), made grammatical changes to move the word “or” twice, and deleted “and 1.1914” in 47 CFR 1.1166(a). The Commission also restored the following text (bolded) that was inadvertently deleted from 47 CFR 1.1166(a) in the May Report and Order: “All requests for waiver, reduction and deferral shall be acted upon by the Managing Director with the concurrence of the General Counsel.” The Commission also (1) modified the heading of section 1.1166 to delete “and installment payment” and to add “and” before the word “deferrals”; (2) revised the final sentence of the introductory paragraph of section 1.1166 to delete the phrase “interest charges or penalties”; and (3) revised section 1.1166(b) to delete a comma and the phrase “from the date of the filing of the deferral request”.

5. The Commission also made technical corrections to 47 CFR 1.1914 to clarify the language of the rule. Specifically, the third sentence of 47 CFR 1.1914(a) was revised to read as follows: “Requests for installment payment of non-regulatory fee debt shall be filed electronically, by submission to the following email address: installmentplanrequest@fcc.gov.” The Commission explained that it made this change to ensure that, for administrative simplicity purposes, installment payment requests that are non-regulatory fee in nature are submitted to a different email address than the email address to which all regulatory fee relief requests, including for installment payment of regulatory fees, are to be submitted. The Commission also revised the fourth sentence of 47 CFR 1.1914(a) to more clearly state that requests for installment payment of regulatory fees may be combined with other regulatory fee relief requests that are filed pursuant to 47 CFR 1.1166. Additionally, the Commission revised the fifth sentence of section 1.1914(a) to delete the phrase “their debt to the Commission.” Further, the Commission stated that the amendments to 47 CFR 1.1914 in the May Report and Order will continue as temporary measures until such time as they become effective.

6. On August 17, 2023, OMB approved the amendments to 47 CFR 1.1166, including the technical language corrections the Commission made in the August Report and Order. On September 15, 2023, the August Report and Order was published in the Federal Register, including 47 CFR 1.1166 and 1.1914, as fully amended and technically corrected. The effective date of 47 CFR 1.1166 was October 16, 2023, which was 30 days after it was published in the Federal Register. The Commission will publish a document in the Federal Register to announce the effective date for the revisions to 47 CFR 1.1914, once OMB has approved the rule.

III. Ordering Clauses

7. Accordingly, it is ordered that, pursuant to sections 4(i), 4(j), 9, 9A, and 303(r) of the Communications Act of 1934, as amended, 47 U.S.C. 154(i), 154(j), 159, 159a, 303(r), this May Report and Order is hereby adopted.

8. It is further ordered that the amendments to section 1.1914 of the Commission's rules, 47 CFR 1.1914, which were technically corrected by the Commission on August 10, 2023, WILL BECOME EFFECTIVE 30 days after publication of a document in the Federal Register announcing that the Office of Management and Budget has completed review of any information collection requirements that the Office of Managing Director determines as required under the Paperwork Reduction Act. The Commission will publish a document in the Federal Register announcing the effective date of the amendments to 47 CFR 1.1914. The amendments to section 1.1166 of the Commission's rules, 47 CFR 1.1166, which were technically corrected by the Commission on August 10, 2023, and approved by the Office of Management and Budget, pursuant to the Paperwork Reduction Act, on August 17, 2023, became effective on October 16, 2023.

Federal Communications Commission.
Marlene Dortch,
Secretary.

[FR Doc. 2023-28617 Filed 12-27-23; 8:45 am]

BILLING CODE 6712-01-P